DEPARTMENT OF TRANSPORTATION

Office of the Secretary

49 CFR Part 40

Procedures for Transportation Workplace Drug and Alcohol Testing Programs

CFR Correction

In Title 49 of the Code of Federal Regulations, Parts 1 to 99, revised as of October 1, 2010, on page 571, in § 40.97, add paragraphs (a)(2)(i) and (ii) to read as follows; and on page 572, in the same section, redesignate paragraphs (d)(1), (2) and (3) as (e)(1), (2) and (3).

§ 40.97 What do laboratories report and how do they report it?

(a) * * *

(2) * * *

(i) Positive, with drug(s)/metabolite(s) noted, with numerical values for the drug(s) or drug metabolite(s).

(ii) Positive-dilute, with drug(s)/metabolite(s) noted, with numerical values for the drug(s) or drug metabolite(s) and with numerical values for creatinine and specific gravity;

* * * * *

[FR Doc. 2011-7828 Filed 3-31-11; 8:45 am]

BILLING CODE 1505-01-D